DEPARTMENT OF THE INTERIOR

Bureau of Land Management

[BLM_ES_FRN_MO4500174413]

Notice of Mailing/Street Address Change for the BLM Northeastern States District Office

AGENCY: Bureau of Land Management, Interior.

ACTION: Notice.

SUMMARY: This notice announces changes to the mailing and street address for the Northeastern States District Office of the Bureau of Land Management (BLM).

DATES: The date for the changes will be on or about November 1, 2023.

FOR FURTHER INFORMATION CONTACT: Richard Navarro, Assistant District Manager for Support Services, BLM Northeastern States District; (414) 297-4419; rdnavarro@blm.gov. Individuals in the United States who are deaf, deafblind, hard of hearing, or have a speech disability may dial 7-1-1 (TTY, TDD, or TeleBraille) to access telecommunications relay services. Individuals outside the United States should use the relay services offered within their country to make international calls to the point-of-contact in the United States.

SUPPLEMENTARY INFORMATION: The mailing and street address for the BLM Northeastern States District Office will be changed from 626 E Wisconsin Ave., Suite 200, Milwaukee, Wisconsin 53202 to 250 E Wisconsin Ave., Suite 1100, Milwaukee, Wisconsin 53202.

Authority: Departmental Manual 382, Chapter 2.1.

Mitchell Leverette,
BLM Eastern States State Director.

[FR Doc. 2023-23170 Filed 10-19-23; 8:45 am]

BILLING CODE 4331-18-P